NATIONAL SCIENCE FOUNDATION

Notice of Meeting

The National Science Foundation announces the following meeting:

Name: Interagency Arctic Research Policy Committee (IARPC).

Date and Time: Monday, July 8, 2002, 2-3:30 p.m.

Place: National Science Foundation, Room 1235, 4201 Wilson Blvd., Arlington, VA.

Type of Meeting: Closed. The meeting is closed to the public because future fiscal year budget and policy issues will be discussed.

Contact Person: Charles E. Myers, Office of Polar Programs, Room 755, National Science Foundation, Arlington, VA 22230, Telephone: (703) 292-7434.

Purpose of Committee: The Interagency Arctic Research Policy Committee was established by Public Law 98-373, the Arctic Research and Policy Act, to help set priorities for future arctic research, assist in the development of a national arctic research policy, prepare a multi-agency budget and Plan for arctic research, and simplify coordination of arctic research.

Proposed Meeting Agenda Items:

1. U.S. Arctic Policy Review.

2. Report of the Arctic Research Commission.

3. IARPC Program Initiative—Bering Sea Research.

4. Implementation of Program Initiatives in FY 2003-2007.

Charles E. Myers,
Head, Interagency Arctic Staff, Office of Polar Programs.

[FR Doc. 02-14732 Filed 6-11-02; 8:45 am]

BILLING CODE 7555-01-M